DEPARTMENT OF AGRICULTURE

Rural Utilities Service

Extension of Public Comment Period for Draft Environmental Impact Statement for Cardinal-Hickory Creek 345-kv Transmission Line Project

AGENCY: Rural Utilities Service, USDA.

ACTION: Extension of Public Comment Period for Draft Environmental Impact Statement for Cardinal-Hickory Creek 345-kv Transmission Line Project.

SUMMARY: A notice of availability, public meetings, and Section 106 notification was published in the Federal Register by the Rural Utilities Service (RUS) on December 7, 2018 (83 FR 63149) for the Cardinal-Hickory Creek 345-kV Transmission Line Project Draft Environmental Impact Statement (EIS). Meetings were scheduled for January 2019 and the public review period was to conclude on February 5, 2019. Due to the lapse in federal funding, this notice announces an extension of the public comment period to April 1, 2019. Additionally, previously scheduled Draft EIS public comment meetings in January 2019 were also cancelled and will be rescheduled, once RUS receives full funding for FY 2019.

DATES: Written comments on this Draft EIS will be accepted until April 1, 2019. RUS will reschedule the Draft EIS public comment meetings for later in 2019 and publish another Notice.

ADDRESSES: A copy of the Draft EIS may be viewed online at the following website: https://www.rd.usda.gov/publications/environmental-studies/impact-statements/cardinal-%E2%80%93-hickory-creek-transmission-line and Dairyland Power Cooperative, 3521 East Avenue, South, La Crosse, WI 54602 and at local libraries in the project area.

FOR FURTHER INFORMATION CONTACT: To obtain copies of the Draft EIS, to request further participation or request consulting party status under section 106 of the NHPA or for further information, contact: Lauren Cusick (202) 720-1414) or Dennis Rankin (202-720-1953), Environmental Protection Specialist, USDA, Rural Utilities Service, 1400 Independence Avenue SW, Room 2244, Stop 1571, Washington, DC 20250-1571, or email Lauren.Cusick@usda.gov or Dennis.Rankin@usda.gov.

SUPPLEMENTARY INFORMATION: Rural Utilities Service (RUS) has prepared a Draft Environmental Impact Statement (EIS) to meet its responsibilities under the National Environmental Policy Act (NEPA) and 7 CFR 1794 related to providing financial assistance to Dairyland Power Cooperative (DPC) for its share in the construction of a proposed 345-kilovolt (kV) transmission line and associated infrastructure connecting the Hickory Creek Substation in Dubuque County, Iowa, with the Cardinal Substation in the Town of Middle, Wisconsin (near Madison, Wisconsin). The Project also includes a new intermediate 345/138-kV substation near the Village of Montfort in either Grant County or Iowa County, Wisconsin. The total length of the 345- kV transmission lines associated with the proposed project will be approximately 125 miles. DPC and the other project participants have identified proposed and alternate segments and locations for transmission lines and associated facilities and for the intermediate substation. Dairyland Power Cooperative is requesting RUS to provide financing for its portion of the proposed project. DPC is participating in the proposed project with two other utilities, American Transmission Company LLC, and ITC Midwest LLC (Utilities).

The purpose of the proposed project is to: (1) Address reliability issues on the regional bulk transmission system, (2) alleviate congestion that occurs in certain parts of the transmission system and remove constraints that limit the delivery of power, (3) expand the access of the transmission system to additional resources, (4) increase the transfer capability of the electrical system between Iowa and Wisconsin, (5) reduce the losses in transferring power and increase the efficiency of the transmission system, and (6) respond to public policy objectives aimed at enhancing the nation's transmission system and to support the changing generation mix.

RUS is the lead agency for the federal environmental review with U.S. Fish and Wildlife Service (USFWS), U.S. Army Corps of Engineers (USACE), and the U.S. Environmental Protection Agency (USEPA) serving as cooperating agencies, and the National Park Service (NPS) as a participating agency.

Dated: February 5, 2019.
Christopher A. McLean,
Assistant Administrator, Electric Programs Rural Utilities Service.

[FR Doc. 2019-01930 Filed 2-11-19; 8:45 am]

BILLING CODE P